DEPARTMENT OF AGRICULTURE

Forest Service

Fishlake National Forest, Intermountain Region, Utah

AGENCY: Forest Service, USDA.

ACTION: Notice of intent to revise the Land and Resource Management Plan (Forest Plan) for the Fishlake National Forest.

SUMMARY: This notice announces the intent of the Fishlake National Forest to revise their Land and Resource Management Plan (Forest Plan) under the 1982 planning regulations (36 CFR part 219). Initial steps of the revision process will focus on information needs, organizing the revision team, resource inventory reviews, and establishing a Forest Plan revision mailing list. Public involvement is critical and will be requested throughout the revision effort.

ADDRESSES: Send written comments concerning this notice and requests to be added to the Forest Plan revision mailing list to Mary Erickson, Forest Supervisor, Fishlake National Forest, 115 East 900 North, Richfield, UT 84701.

FOR FURTHER INFORMATION CONTACT: Frank Fay, Land Management Planner, Fishlake National Forest, 115 East 900 North, Richfield, UT 84701.

SUPPLEMENTARY INFORMATION: The Forest Plan for the Fishlake National forest was completed in June, 1986 and will remain in effect and continue to be implemented until the Plan is revised. In the past, a “Notice of Intent to Prepare an Environmental Impact Statement” was issued at the beginning of the forest planning process. This Notice addresses initiation of revision with a focus on information needs, resource inventory reviews, organizing the revision team, and working with the public. Once the scope of the revision is better understood the Forest will issue another Notice to prepare the Environmental Impact Statement.

This Notice initiates revision under the 1982 planning regulations (36 CFR 219). The Forest Service is preparing new draft planning regulations expected to be issued in the Spring of 2002. Since these new regulations will reflect the latest national thinking on land and resource management planning, the Forest will seriously consider switching to, and completing the forest plan revision under, the new regulations when they are finalized. An additional Notice will be issued if the Forest decides to switch.

Authority: 40 CFR 1501.7 and 1508.22; Forest Service Handbook 1909.15, Section 21.

Dated: April 26, 2002.
Mary C. Erickson,
Forest Supervisor.

[FR Doc. 02-11112 Filed 5-8-02; 8:45 am]

BILLING CODE 3410-11-M